SOCIAL SECURITY ADMINISTRATION

The Ticket to Work and Work Incentives Advisory Panel Meeting

AGENCY: Social Security Administration (SSA).

ACTION: Notice Correction.

SUPPLEMENTARY INFORMATION: The Social Security Administration published a document in the Federal Register of January 22, 2001, 66 FR 6730, concerning a meeting of the Ticket to Work and Work Incentives Advisory Panel. The document contained information that has changed for the meeting times and the agenda including times for the public comment period.

FOR FURTHER INFORMATION CONTACT: Kristen M. Breland, 410-966-7225.

CORRECTIONS:

In the Federal Register of January 22, 2001, in Federal Register Doc. 01-1952, on page 6730, in the second column, correct the meeting DATES to read.

DATES:

February 6, 2001, 9:00 a.m.-5:00 p.m.

February 7, 2001, 9:00 a.m.-5:00 p.m.

February 8, 2001, 9:00 a.m.-5:00 p.m.

In the Federal Register of January 22, 2001, in Federal Register Doc. 01-1952, on page 6730, in the third column, correct the “AGENDA (Meeting)” to read.

AGENDA: The Public Testimony Comment Period on Ticket to Work and Work Incentives Improvement Act (TWWIIA) NPRM and Implementation is now scheduled only on Tuesday, February 6, 2001 from 9:15 to 12:00 noon. The Panel will deliberate all day on Wednesday, February 7, 2001. At the end of this notice is the corrected meeting agenda for February 6 through 8, 2001.

Dated: January 29, 2001.
Deborah M. Morrison,
Designated Federal Officer.

Ticket to Work and Work Incentives Advisory Panel—Quarterly Meeting Agenda February 6 through 8, 2001

Bethesda Hyatt, One Bethesda Metro Center, Bethesda, MD 20814; Phone, (301) 657-1234; Fax (301) 657-6453. The hotel is located above the Bethesda Metro Station on the Red line.

Tuesday, February 6, 2001, Day 1

9:00 AM—Meeting Called to Order by Deborah Morrison, Designated Federal Officer

9:00 to 9:15 AM—Welcome and Introductions—Sarah Mitchell, Chair, Presiding

9:15 AM to 12:00 PM—Public Testimony Comment Period on TWWIIA NPRM and Implementation

12:00 to 1:30 PM-Lunch (On Your Own)

1:30 PM—Meeting Reconvenes, Sarah Mitchell, Presiding

1:30 to 5:00 PM—Briefings from SSA Officials

5:00 PM—Adjournment

Please note: If time allotted for public comment exceeds the time required, the Panel will use the time to deliberate on TWWIIA implementation.

Wednesday, February 7, 2001, Day 2

9:00 AM to 12:00 PM—Panel Deliberations on TWWIIA Implementation

12:00 to 1:30 PM—Lunch (On Your Own)

1:30 PM—Meeting Reconvenes, Sarah Mitchell, Presiding

1:30 to 5:00 PM—Panel Deliberations on TWWIIA Implementation

5:00 PM—Adjournment

Thursday, February 8, 2001, Day 3

9:00 AM to 12:00 PM—Briefings and Panel Deliberations on TWWIIA Implementation

12:00 to 1:30 PM—Lunch (On Your Own)

1:30 PM—Meeting Reconvenes, Sarah Mitchell, Presiding

1:30 to 3:00 PM—Briefings and deliberations on implementation of TWWIA

3:30 to 5:00 PM—Business Meeting

5:00 PM—Adjournment by Designated Federal Officer

[FR Doc. 01-2939 Filed 2-1-01; 8:45 am]

BILLING CODE 4191-02-U